DEPARTMENT OF ENERGY

Federal Energy Regulatory Commission

Combined Notice of Filings #1

Take notice that the Commission received the following electric rate filings:

Docket Numbers: ER16-2365-004.

Applicants: All Dams Generation, LLC.

Description: Compliance filing: Informational Filing Pursuant to Schedule 2 of the PJM OATT & Request for Waiver to be effective N/A.

Filed Date: 7/24/19.

Accession Number: 20190724-5121.

Comments Due: 5 p.m. ET 8/27/19.

Docket Numbers: ER16-2366-002.

Applicants: Mahoning Creek Hydroelectric Company, LLC.

Description: Compliance filing: Informational Filing Pursuant to Schedule 2 of the PJM OATT & Request for Waiver to be effective N/A.

Filed Date: 7/24/19.

Accession Number: 20190724-5122.

Comments Due: 5 p.m. ET 8/27/19.

Docket Numbers: ER19-2476-000.

Applicants: Techren Solar II LLC.

Description: Report Filing: Amendment to Application for Market Based Rate Filing to be effective N/A.

Filed Date: 8/19/19.

Accession Number: 20190819-5113.

Comments Due: 5 p.m. ET 9/9/19.

Docket Numbers: ER19-2504-001.

Applicants: Southern California Edison Company.

Description: Tariff Amendment: Correction Filing to SCE Revised WDAT Attachment J to be effective 7/26/2019.

Filed Date: 8/20/19.

Accession Number: 20190820-5001.

Comments Due: 5 p.m. ET 9/10/19.

Docket Numbers: ER19-2638-000.

Applicants: Midcontinent Independent System Operator, Inc.

Description: § 205(d) Rate Filing: 2019-08-19_SA 3294 Cooperative Energy—Cooperative Energy 1st Rev GIA (J888) to be effective 8/5/2019.

Filed Date: 8/19/19.

Accession Number: 20190819-5144.

Comments Due: 5 p.m. ET 9/9/19.

Docket Numbers: ER19-2639-000.

Applicants: AEP Texas Inc.

Description: § 205(d) Rate Filing: AEPTX-CenterPoint Energy Houston Electric IA to be effective 8/6/2019.

Filed Date: 8/19/19.

Accession Number: 20190819-5146.

Comments Due: 5 p.m. ET 9/9/19.

Docket Numbers: ER19-2642-000.

Applicants: Tampa Electric Company.

Description: § 205(d) Rate Filing: OATT Revisions _Dissolution of FRCC as a NERC Regional Entity to be effective 9/1/2019.

Filed Date: 8/20/19.

Accession Number: 20190820-5060.

Comments Due: 5 p.m. ET 9/10/19.

Docket Numbers: ER19-2643-000.

Applicants: Duke Energy Florida, LLC.

Description: § 205(d) Rate Filing: DEF OATT Revisions (FRCC Dissolution) to be effective 9/1/2019.

Filed Date: 8/20/19.

Accession Number: 20190820-5063.

Comments Due: 5 p.m. ET 9/10/19.

Docket Numbers: ER19-2644-000.

Applicants: Whitney Hill Wind Power, LLC.

Description: Baseline eTariff Filing: Whitney Hill MBR Application to be effective 9/1/2019.

Filed Date: 8/20/19.

Accession Number: 20190820-5102.

Comments Due: 5 p.m. ET 9/10/19.

Docket Numbers: ER19-2645-000.

Applicants: New York Independent System Operator, Inc., Niagara Mohawk Power Corporation.

Description: § 205(d) Rate Filing: Joint IA among NYISO, NMPC and HQ US for Cedar Rapids Intertie to be effective 7/31/2019.

Filed Date: 8/20/19.

Accession Number: 20190820-5114.

Comments Due: 5 p.m. ET 9/10/19.

Docket Numbers: ER19-2646-000.

Applicants: Midcontinent Independent System Operator, Inc., Otter Tail Power Company.

Description: § 205(d) Rate Filing: 2019-08-20_SA 3342 OTP-GRE T-T (Schuster Lake) to be effective 10/20/2019.

Filed Date: 8/20/19.

Accession Number: 20190820-5123.

Comments Due: 5 p.m. ET 9/10/19.

Docket Numbers: ER19-2647-000.

Applicants: Florida Power & Light Company.

Description: § 205(d) Rate Filing: FPL Revised OATT to Reflect the Dissolution of the FRCC as NERC Regional Entity to be effective 9/1/2019.

Filed Date: 8/20/19.

Accession Number: 20190820-5120.

Comments Due: 5 p.m. ET 9/10/19.

Docket Numbers: ER19-2648-000.

Applicants: Nevada Power Company.

Description: § 205(d) Rate Filing: Rate Schedule No. 139 JDA Amended & Restated to be effective 10/19/2019.

Filed Date: 8/20/19.

Accession Number: 20190820-5128.

Comments Due: 5 p.m. ET 9/10/19.

Docket Numbers: ER19-2649-000.

Applicants: Sierra Pacific Power Company.

Description: § 205(d) Rate Filing: Rate Schedule No. 63—Concurrence in NPC RS No. 139 Joint Dispatch Agmt to be effective 10/19/2019.

Filed Date: 8/20/19.

Accession Number: 20190820-5129.

Comments Due: 5 p.m. ET 9/10/19.

Docket Numbers: ER19-2650-000.

Applicants: NorthWestern Corporation, Avista Corporation, Idaho Power Company, MATL LLP, PacifiCorp, Portland General Electric Company, Puget Sound Energy, Inc.

Description: Initial rate filing: NorthernGrid Funding Agreement to be effective 10/31/2019.

Filed Date: 8/20/19.

Accession Number: 20190820-5130.

Comments Due: 5 p.m. ET 9/10/19.

Docket Numbers: ER19-2651-000.

Applicants: PacifiCorp.

Description: § 205(d) Rate Filing: NorthernGrid Funding Agreement—NorthWestern Corporation to be effective 10/31/2019.

Filed Date: 8/20/19.

Accession Number: 20190820-5147.

Comments Due: 5 p.m. ET 9/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2019.
Kimberly D. Bose,
Secretary.

[FR Doc. 2019-18711 Filed 8-28-19; 8:45 am]

BILLING CODE 6717-01-P